NATIONAL AERONAUTICS AND SPACE ADMINISTRATION

[Notice (01-011)]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing.

DATES: January 22, 2001.

FOR FURTHER INFORMATION CONTACT: Edward Fein, Patent Counsel, Johnson Space Center, Mail Code HA, Houston, Texas 77058-3696; Tel. (281) 483-4871; Fax (281) 244-8452.

NASA Case No. MSC-22616-3: Preservation of Liquid Biological Samples;

NASA Case No. MSC-22633-1: Growth Stimulation of Biological Cells and Tissue by Electromagnetic Fields and Uses Thereof;

NASA Case No. MSC-22936-2: Microencapsulated Bioactive Agents and Method of Making;

NASA Case No. MSC-23049-2: Method of Constructing a Microwave Antenna;

NASA Case No. MSC-23049-3: Method for Selective Thermal Ablation;

NASA Case No. MSC-23049-4: Computer Program for Microwave Antenna.

Dated: January 11, 2001.
Edward A. Frankle,
General Counsel.

[FR Doc. 01-1771 Filed 1-19-01; 8:45 am]

BILLING CODE 7510-01-U